DEPARTMENT OF THE INTERIOR

Bureau of Land Management

[UTU-78562]

Notice of Coal Lease Offering by Sealed Bid Whitmore Canyon Tract

U.S. Department of the Interior, Bureau of Land Management, Utah State Office, P.O. Box 45155, Salt Lake City, Utah 84145-0155. Notice is hereby given that at 1:00 p.m., December 12, 2001, certain coal resources in lands hereinafter described in Carbon County, Utah will be offered for competitive lease by sealed bid of $100.00 per acre or more to the qualified bidder submitting the highest bonus bid in accordance with the provisions of the Mineral Leasing Act of 1920, as amended (41 Stat. 437). However, no bid will be accepted for less than fair market value as determined by the authorized officer. A company or individual is limited to one sealed bid. If a company or individual submits two or more sealed bids for this tract, all of the company's or individual's bids will be rejected.

This lease is being offered for sale under the provisions set forth in the regulations for Leasing on Application at 43 CFR 3425.

The lease sale will be held in the Bureau of Land Management Conference Room, Utah State Office, 324 South State Street, Suite 302, Salt Lake City, Utah at 1 p.m. on December 12, 2001. At that time, the sealed bids will be opened and read. No bids received after 10 a.m., December 12, 2001, will be considered.

Coal Offered: The coal resources to be offered consist of all recoverable reserves available in the following described lands located in Carbon County, Utah, approximately 4 miles north of East Carbon City, Utah:

T. 13 S., R. 13 E., SLM, Utah

Sec. 35, S2SW, SE.

T. 14 S., R. 13 E., SLM, Utah

Sec. 1, lots 2-7, SWNE,S2NW,SW,W2SE;

Sec. 12, lots 1-4, S2N2,NESW,SE;

Sec. 13, NENE.

T. 14 S., R. 14 E., SLM, Utah

Sec. 6, lot 6;

Sec. 7, lots 3 and 4;

Sec. 18, lot 1, E2NW.

Containing 1,646.34 acres

The tract has one potentially minable coal seam, the Upper Sunnyside. The minable portions of the seam in this area are from 6 to 9 feet in thickness and average 8 feet. This tract contains an estimated 14.8 million tons of recoverable coal.

The estimated coal quality using weighted averages of samples on an as-received basis is:

13,256 BTU/lb.;

4.70 Percent moisture;

1.26 Percent sulphur;

5.60 Percent ash;

45.98 Percent fixed carbon;

36.87 Percent volatile matter

(Totals do not equal 100% due to rounding)

Rental and Royalty: A lease issued as a result of this offering will provide for payment of an annual rental of $3 per acre or fraction thereof and a royalty payable to the United States of 12.5 percent of the value of coal mined by surface methods, and 8 percent of the value of coal mined by underground methods. The value of coal shall be determined in accordance with BLM Manual 3070.

Notice of Availability: Bidding instructions are included in the Detailed Statement of Lease Sale. A copy of the detailed statement and the proposed coal lease are available by mail at the Bureau of Land Management, Utah State Office, P.O. Box 45155, Salt Lake City, Utah 84145-0155 or in the Public Room (Room 400), 324 South State Street, Salt Lake City, Utah 84111. All case file documents and written comments submitted by the public on Fair Market Value or royalty rates except those portions identified as proprietary by the commentator and meeting exemptions stated in the Freedom of Information Act, are available for public inspection in the Public Room (Room 400) of the Bureau of Land Management.

Dated: October 24, 2001.
Joseph J. Incardine,
Acting Deputy State Director, Lands and Minerals.

[FR Doc. 01-27927 Filed 11-6-01; 8:45 am]

BILLING CODE 4310-DQ-P